DEPARTMENT OF TRANSPORTATION

Federal Aviation Administration

14 CFR Part 39

[Docket No. FAA-2018-0794; Product Identifier 2017-NM-175-AD]

RIN 2120-AA64

Airworthiness Directives; Bombardier, Inc. Airplanes

AGENCY: Federal Aviation Administration (FAA), DOT.

ACTION: Notice of proposed rulemaking (NPRM).

SUMMARY: We propose to supersede Airworthiness Directive (AD) 2012-25-02, which applies to certain Bombardier, Inc. Model CL-600-2B19 (Regional Jet Series 100 & 440) airplanes. AD 2012-25-02 requires revising the airworthiness limitations section (AWL) of the instructions for continued airworthiness (ICA) of the maintenance requirements manual by incorporating new procedures for repetitive inspections for cracking of the rear pressure bulkhead (RPB). AD 2012-25-02 also requires revising the maintenance program to incorporate a revised task which requires an improved non-destructive inspection procedure. Since we issued AD 2012-25-02, additional in-service crack findings resulted in the development of a structural modification to the RPB. This proposed AD would mandate modification of the RPB and would add repetitive inspections for cracking of the RPB web, which would terminate certain actions in this proposed AD. We are proposing this AD to address the unsafe condition on these products.

DATES: We must receive comments on this proposed AD by October 29, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Bombardier, Inc., 400 Côte-Vertu Road West, Dorval, Québec H4S 1Y9, Canada; Widebody Customer Response Center North America toll-free telephone 1-866-538-1247 or direct-dial telephone 514-855-5000; fax 514-855-7401; email ac.yul@aero.bombardier.com; internet http://www.bombardier.com. You may view this referenced service information at the FAA, Transport Standards Branch, 2200 South 216th St., Des Moines, WA. For information on the availability of this material at the FAA, call 206-231-3195.

Examining the AD Docket

You may examine the AD docket on the internet at http://www.regulations.gov by searching for and locating Docket No. FAA-2018-0794; or in person at the Docket Management Facility between 9 a.m. and 5 p.m., Monday through Friday, except Federal holidays. The AD docket contains this NPRM, the regulatory evaluation, any comments received, and other information. The street address for the Docket Operations office (telephone 800-647-5527) is in the ADDRESSES section. Comments will be available in the AD docket shortly after receipt.

FOR FURTHER INFORMATION CONTACT: Aziz Ahmed, Aerospace Engineer, Airframe and Mechanical Systems Section, FAA, New York ACO Branch, 1600 Stewart Avenue, Suite 410, Westbury, NY 11590; telephone 516-228-7329; fax 516-794-5531.

SUPPLEMENTARY INFORMATION:

Comments Invited

We invite you to send any written relevant data, views, or arguments about this proposal. Send your comments to an address listed under the ADDRESSES section. Include “Docket No. FAA-2018-0794; Product Identifier 2017-NM-175-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued AD 2012-25-02, Amendment 39-17283 (77 FR 73902, December 12, 2012) (“AD 2012-25-02”), for certain Bombardier, Inc. Model CL-600-2B19 (Regional Jet Series 100 & 440) airplanes. AD 2012-25-02 requires revising the AWL of the ICA of the Canadair Regional Jet Maintenance Requirements Manual by incorporating new procedures for repetitive detailed and special detailed inspections for cracking of the RPB. AD 2012-25-02 also requires revising the maintenance program to incorporate a revised task specified in a certain temporary revision, which requires an improved non-destructive inspection procedure; and adds airplanes to the applicability. AD 2012-25-02 resulted from multiple reports of cracks on the forward face of the RPB web. We issued AD 2012-25-02 to detect and correct cracking in the RPB, which could result in reduced structural integrity and rapid decompression of the airplane.

Actions Since AD 2012-25-02 Was Issued

Since we issued AD 2012-25-02, additional in-service crack findings resulted in the development of a structural modification to the RPB.

Transport Canada Civil Aviation (TCCA), which is the aviation authority for Canada, has issued Canadian Airworthiness Directive CF-2011-30R2, dated June 12, 2017 (referred to after this as the Mandatory Continuing Airworthiness Information, or “the MCAI”), to correct an unsafe condition for certain Bombardier, Inc. Model CL-600-2B19 (Regional Jet Series 100 & 440) airplanes. The MCAI states:

Cracks on the forward face of the Rear Pressure Bulkhead (RPB) web have been discovered on three CL-600-2B19 aeroplanes in-service.

A Temporary Revision has been made to Part 2 of the Maintenance Requirements Manual (MRM) to revise the existing AWL task by introducing an improved Non-Destructive Inspection (NDI) procedure to ensure that fatigue cracking of the RPB is detected and corrected.

The original issue of this [TCCA] AD [which corresponds to FAA AD 2012-25-02] mandated the incorporation of a new NDI procedure for AWL task number 53-61-153.

Additional in-service findings have resulted in the issue of revision 1 of this [TCCA] AD, which mandates a structural modification to the rear pressure bulkhead with revised threshold and repeat inspection intervals. This modification is intended to preclude the onset of multiple site fatigue damage for the remaining service life of the aeroplane. If not corrected, a failure of the RPB could result in loss of structural integrity of the aeroplane.

Revision 2 of this [TCCA] AD requires an inspection to be carried out prior to modification of the RPB. This revision also requires an additional modification to be completed on the RPB prior to terminating AWL task number 53-61-153. It also includes provisions to account for certain repairs as well as [alternative methods of compliance] AMOCs issued to earlier revisions of this [TCCA] AD.

You may examine the MCAI in the AD docket on the internet at http://www.regulations.gov by searching for and locating Docket No. FAA-2018-0794.

Related Service Information Under 1 CFR Part 51

Bombardier, Inc., has issued the following service information.

• Bombardier Repair Engineering Order (REO) 601R-53-61-1230, Revision F, dated November 7, 2011. This service information describes procedures for a repair to the pressure bulkhead web frame station (FS) 621.00, lintel installation.

• Bombardier REO 601R-53-61-1240, Revision D, dated October 31, 2016. This service information describes procedures for a repair and modification to FS 621.00 pressure bulkhead web.

• Bombardier REO 601R-53-61-5828, Revision A, dated March 16, 2017. This service information describes procedures for a repair to FS 621.00 pressure bulkhead web at left buttock line (LBL) 27.5.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

This AD requires revisions to certain operator maintenance documents to include new actions (e.g., inspections). Compliance with these actions is required by 14 CFR 91.403(c). For airplanes that have been previously modified, altered, or repaired in the areas addressed by this proposed AD, the operator may not be able to accomplish the actions described in the revisions. In this situation, to comply with 14 CFR 91.403(c), the operator must request approval for an alternative method of compliance according to paragraph (p)(1) of this proposed AD. The request should include a description of changes to the required actions that will ensure the continued damage tolerance of the affected structure.

Differences Between This Proposed AD and the Service Information

The MCAI includes the following statement: “If it is not possible to complete all of the instructions in the SBs [service bulletins] . . . due to the configuration of the aircraft, contact Bombardier Inc. for approved instructions.” This issue is addressed in 14 CFR 39.17, which states that “If a change in a product affects your ability to accomplish the actions required by the AD in any way, you must request FAA approval of an alternative method of compliance . . .” Since we do not currently have the authority to delegate AMOC approvals to foreign civil aviation authorities, the FAA is responsible for these approvals.

Costs of Compliance

We estimate that this proposed AD affects 457 airplanes of U.S. registry. We estimate the following costs to comply with this proposed AD:

Estimated Costs for Required Actions
Labor cost | Parts cost | Cost per product | Cost on U.S. operators
Up to 917 work-hours × $85 per hour = Up to $77,945 | Up to $6,000 | Up to $83,945 | Up to $38,362,865.

We have determined that revising the maintenance or inspection program takes an average of 90 work-hours per operator, although we recognize that this number may vary from operator to operator. In the past, we have estimated that this action takes 1 work-hour per airplane. Since operators incorporate maintenance or inspection program changes for their affected fleet(s), we have determined that a per-operator estimate is more accurate than a per-airplane estimate. Therefore, we estimate the total cost per operator to be $7,650 (90 work-hours × $85 per work-hour).

We have received no definitive data that would enable us to provide cost estimates for the on-condition actions specified in this proposed AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979),

3. Will not affect intrastate aviation in Alaska, and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-25-02, Amendment 39-17283 (77 FR 73902, December 12, 2012), and adding the following new AD:

Bombardier Inc.: Docket No. FAA-2018-0794; Product Identifier 2017-NM-175-AD.

(a) Comments Due Date

We must receive comments by October 29, 2018.

(b) Affected ADs

This AD replaces AD 2012-25-02, Amendment 39-17283 (77 FR 73902, December 12, 2012) (“AD 2012-25-02”).

(c) Applicability

This AD applies to Bombardier, Inc. Model CL-600-2B19 (Regional Jet Series 100 & 440) airplanes, certificated in any category, serial numbers 7002 through 8025 inclusive, 8030, and 8034.

(d) Subject

Air Transport Association (ATA) of America Code 53, Fuselage.

(e) Reason

This AD was prompted by multiple reports of cracks on the forward face of the rear pressure bulkhead (RPB) web, and additional in-service crack findings which resulted in the development of a structural modification to the RPB. We are issuing this AD to address cracking in the RPB, which could result in reduced structural integrity and rapid decompression of the airplane.

(f) Compliance

Comply with this AD within the compliance times specified, unless already done.

(g) Retained Revision of the Maintenance Program With New Terminating Action

This paragraph restates the requirements of paragraph (i) of AD 2012-25-02, with a new terminating action. Except for the airplane having serial number 7002, within 60 days after January 16, 2013 (the effective date of AD 2012-25-02): Revise the maintenance program by incorporating the revised inspection requirements specified in airworthiness limitation section (AWL) 53-61-153 of Bombardier temporary revision (TR) 2B-2187, dated June 22, 2011, to Appendix B-Airworthiness Limitations, of Part 2 of the Bombardier CL-600-2B19 Maintenance Requirements Manual (MRM). The initial compliance times for the task are at the applicable time specified in paragraph (g)(1) or (g)(2) of this AD. Doing the actions required by paragraph (j) or (l) of this AD terminates the requirements of this paragraph, for the repaired area only. Accomplishment of the actions required by paragraph (m) of this AD terminates the requirements of this paragraph.

(1) For airplanes on which the special detailed inspection specified in AWL 53-61-153 of Bombardier TR 2B-2187, dated June 22, 2011; or Canadair Regional Jet TR 2B-2109, dated October 13, 2005; has not been done as of January 16, 2013 (the effective date of AD 2012-25-02): The initial compliance time for AWL 53-61-153 is at the applicable time specified in paragraph (g)(1)(i) or (g)(1)(ii) of this AD.

(i) For airplanes that have accumulated 10,500 total flight cycles or less as of January 16, 2013: Before the accumulation of 12,000 total flight cycles.

(ii) For airplanes that have accumulated more than 10,500 total flight cycles as of January 16, 2013: Within 1,500 flight cycles after January 16, 2013 (the effective date of AD 2012-25-02).

(2) For airplanes on which the special detailed inspection specified in AWL 53-61-153 of Bombardier TR 2B-2187, dated June 22, 2011; or Canadair Regional Jet TR 2B-2109, dated October 13, 2005; has been done as of January 16, 2013 (the effective date of AD 2012-25-02): The initial compliance time for AWL 53-61-153 is within 4,360 flight cycles after accomplishing the most recent special detailed inspection, or within 1,500 flight cycles after accomplishing the most recent detailed inspection as specified in AWL 53-61-153 of Canadair Regional Jet TR 2B-2109, dated October 13, 2005, whichever occurs later.

(h) Retained No Alternative Actions or Intervals With New Exception

This paragraph restates the requirements of paragraph (j) of AD 2012-25-02, with a new exception. Except as required by paragraphs (j)(3), (l)(2), and (m) of this AD, after accomplishing the revisions required by paragraph (g) of this AD, no alternative actions (e.g., inspections) or intervals may be used other than those specified in Bombardier TR 2B-2187, dated June 22, 2011, to Appendix B-Airworthiness Limitations, of Part 2 of the Bombardier CL-600-2B19 MRM, unless the actions and intervals are approved as an alternative method of compliance (AMOC) in accordance with the procedures specified in paragraph (p)(1) of this AD.

(i) Retained General Revision of the MRM With No Changes

This paragraph restates the requirements of paragraph (k) of AD 2012-25-02, with no changes. The maintenance program revision required by paragraph (g) of this AD may be done by inserting a copy of Bombardier TR 2B-2187, dated June 22, 2011, into Appendix B-Airworthiness Limitations, of Part 2 of the Bombardier CL-600-2B19 MRM. When this TR has been included in general revisions of the MRM, the general revisions may be inserted in the MRM, provided the relevant information in the general revision is identical to that in this TR.

(j) New Requirements of This AD: Inspections, Modification, and Maintenance or Inspection Program Revision

Accomplish the actions required by paragraphs (j)(1), (j)(2), and (j)(3) of this AD at the time specified, except as provided by paragraphs (l) and (m) of this AD.

(1) At the applicable time specified in figure 1 to paragraph (j) of this AD: Do a nondestructive inspection for cracking of the forward face of the fuselage station (FS) 621 pressure bulkhead, in accordance with AWL 53-61-153 of Bombardier TR 2B-2187, dated June 22, 2011, to Appendix B-Airworthiness Limitations, of Part 2 of the Bombardier CL-600-2B19 MRM.

(2) At the applicable time specified in figure 1 to paragraph (j) of this AD: Modify the RPB and do a nondestructive inspection for cracking of the FS 621 pressure bulkhead web, in accordance with Bombardier Repair Engineering Order (REO) 601R-53-61-1240, Revision D, dated October 31, 2016.

(3) Before further flight after accomplishing the modification required by paragraph (j)(2) of this AD: Revise the maintenance or inspection program, as applicable, by incorporating the inspection requirements at the threshold and repetitive inspection times specified in the in-service deviation inspection requirements (SDIR) of Bombardier REO 601R-53-61-1240, Revision D, dated October 31, 2016.

(k) Corrective Action

(1) If any crack is found during any inspection required by paragraph (j)(2), (l)(1), or (m) of this AD: Before further flight, repair using a method approved by the Manager, New York ACO Branch, FAA; Transport Canada Civil Aviation (TCCA); or Bombardier, Inc.'s TCCA Design Approval Organization (DAO). If approved by the DAO, the approval must include the DAO-authorized signature.

(2) If any crack is found during any inspection required by paragraph (j)(1) of this AD: Before further flight, repair in accordance with Bombardier REO 601R-53-61-1230, Revision F, dated November 7, 2011, or Bombardier REO 601R-53-61-1240, Revision D, dated October 31, 2016, as applicable, or using a method approved by the Manager, New York ACO Branch, FAA; TCCA; or Bombardier, Inc.'s TCCA DAO. If approved by the DAO, the approval must include the DAO-authorized signature.

(l) Alternative Actions for Certain Airplanes

For airplanes on which the actions required by paragraphs (j)(1) and (j)(2) of this AD were performed before the effective date of this AD using the REOs identified in figure 2 to paragraph (l) of this AD: In lieu of accomplishing the actions required by paragraph (j) of this AD, accomplish the actions required by paragraphs (l)(1) and (l)(2) of this AD within 6,000 flight cycles after the effective date of this AD.

(1) Perform a special detailed inspection for cracking of Zone B of the RPB web, in accordance with Part B of Bombardier REO 601R-53-61-1240, Revision D, dated October 31, 2016.

(2) Revise the maintenance or inspection program, as applicable, by incorporating the inspection requirements at the threshold and repetitive inspection times specified in Part B of the SDIR of Bombardier REO 601R-53-61-1240, Revision D, dated October 31, 2016. The inspection threshold is measured from the time of incorporation of the applicable REO specified in figure 2 to paragraph (l) of this AD.

BILLING CODE 4910-13-P

BILLING CODE 4910-13-C

(m) Alternative Actions for Airplane Serial Number 7610

For any airplane having serial number 7610: In lieu of accomplishing the actions required by paragraph (j) of this AD; within 6,000 flight cycles after the effective date of this AD, do a reinforcement of K601R36010—A at left buttock line (LBL) 27.5 and perform a special detailed inspection for cracking of the FS 621 pressure bulkhead web at LBL 27.5, in accordance with Bombardier REO 601R-53-61-5828, Revision A, dated March 16, 2017. Before further flight after accomplishing the reinforcement, or within 60 days after the effective date of this AD, whichever occurs later: Revise the maintenance or inspection program, as applicable, by incorporating the inspection requirements that include threshold and repetitive inspection times as specified in the SDIR of Bombardier REO 601R-53-61-5828, Revision A, dated March 16, 2017.

(n) No Alternative Actions or Intervals

After the maintenance or inspection program has been revised as required by paragraph (j)(3), (l)(2), or (m) of this AD, no alternative actions (e.g., inspections) or intervals may be used unless the actions or intervals are approved as an AMOC in accordance with the procedures specified in paragraph (p)(1) of this AD.

(o) Terminating Actions for Paragraph (g) of This AD

(1) Accomplishment of the actions required by paragraph (j) or (l) of this AD terminates the requirements of paragraph (g) of this AD, for the repaired area only.

(2) Accomplishment of the actions required by paragraph (m) of this AD terminates the requirements of paragraph (g) of this AD.

(3) For airplanes on which the actions required by paragraph (j) or (l) of this AD have been done and on which the modification and inspection specified in REO 601R-53-61-1230 Revision F, dated November 7, 2011, have been done and there were no inspection findings: The actions required by paragraph (g) of this AD are terminated.

(p) Other FAA AD Provisions

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, New York 11590; telephone: (516) 228-7300; fax: (516) 794-5531.

(i) Before using any approved AMOC, notify your appropriate principal inspector, or lacking a principal inspector, the manager of the local flight standards district office/certificate holding district office.

(ii) AMOCs approved previously for AD 2012-25-02, are approved as AMOCs for the corresponding provisions in paragraphs (g), (k), and (l) of this AD.

(2) Contacting the Manufacturer: For any requirement in this AD to obtain corrective actions from a manufacturer, the action must be accomplished using a method approved by the Manager, New York ACO Branch, FAA; or TCCA; or Bombardier Inc.'s TCCA DAO. If approved by the DAO, the approval must include the DAO-authorized signature.

(q) Related Information

(1) Refer to Mandatory Continuing Airworthiness Information (MCAI) Canadian Airworthiness Directive CF-2011-30R2, dated June 12, 2017, for related information. This MCAI may be found in the AD docket on the internet at http://www.regulations.gov by searching for and locating Docket No. FAA-2018-0794.

(2) For more information about this AD, contact Aziz Ahmed, Aerospace Engineer, Airframe and Mechanical Systems Section, FAA, New York ACO Branch, 1600 Stewart Avenue, Suite 410, Westbury, NY 11590; telephone 516-228-7329; fax 516-794-5531.

(3) For service information identified in this AD, contact Bombardier, Inc., 400 Côte-Vertu Road West, Dorval, Québec H4S 1Y9, Canada; Widebody Customer Response Center North America toll-free telephone 514-855-5000; fax 514-855-7401; email ac.yul@aero.bombardier.com; internet http://www.bombardier.com; internet http://www.bombardier.com. You may view this service information at the FAA, Transport Standards Branch, 2200 South 216th St., Des Moines, WA. For information on the availability of this material at the FAA, call 206-231-3195.

Issued in Des Moines, Washington, on August 24, 2018.
James Cashdollar,
Acting Director, System Oversight Division, Aircraft Certification Service.

[FR Doc. 2018-19735 Filed 9-12-18; 8:45 am]

BILLING CODE 4910-13-P